DEPARTMENT OF COMMERCE

National Oceanic and Atmospheric Administration

RIN 0648-XC901

Endangered and Threatened Species; Announcement of a Recovery Planning Workshop and Request for Information

AGENCY: National Marine Fisheries Service (NMFS), National Oceanic and Atmospheric Administration (NOAA), Department of Commerce.

ACTION: Notice; request for information.

SUMMARY: We, NMFS, are convening a workshop to solicit facts and information from experts to inform recovery planning for the Main Hawaiian Islands (MHI) insular false killer whale (Pseudorca crassidens) Distinct Population Segment (DPS). This workshop will be open to the public. We also request information that might inform the development of the recovery plan. On October 2, 2013, we published a Notice of Intent to prepare a Recovery Plan and Request for Information for this DPS. We received seven public comments in response to that notice, which remain relevant and will be considered in the recovery planning process. Because significant time has elapsed since this last request, we are requesting any additional information that has become available in the interim.

DATES:

• Workshop dates and information: The four-day recovery planning workshop for the MHI insular false killer whale DPS will be held Tuesday, October 25 through Friday, October 28, 2016, at the Ohana Waikiki East Hotel, 150 Kaiulani Ave., Honolulu, HI 96815. The workshop will begin each day at 9 a.m. and end each day at 5:30 p.m. or as necessary to complete business for the day.

RSVP date: If you plan to attend the workshop as an interested member of the public, please contact Krista Graham, NMFS, Pacific Islands Regional Office, krista.graham@noaa.gov, 808-725-5152 no later than October 21, 2016.

• Date for information submission: Please submit information to inform recovery planning via the methods listed below in the ADDRESSES section by December 5, 2016.

ADDRESSES: You may submit information by either of the following methods:

• Mail: Krista Graham, NMFS Pacific Islands Regional Office, Protected Resources Division, 1845 Wasp Blvd., Building 176, Honolulu, HI 96818.

• Electronic Submissions: Submit all electronic information that may inform the development of recovery criteria and actions via email to NMFS.PIR.FKWRecoveryPlan@noaa.gov (No files larger than 5MB can be accepted).

FOR FURTHER INFORMATION CONTACT: Krista Graham, NMFS, Pacific Islands Regional Office, 808-725-5152. You may also visit our Web site at: http://www.fpir.noaa.gov/PRD/prd_mhi_false_killer_whale.html#fwk_esa_listing.

SUPPLEMENTARY INFORMATION:

Background

On November 28, 2012, we published a final rule listing the MHI insular false killer whale DPS as endangered under the Endangered Species Act (ESA) (77 FR 70915). The final listing rule describes the background of the listing action for this DPS and provides a summary of our conclusions regarding its status. For additional background and a summary of natural history and threats to the species, the reader is referred to the status review report and final listing rule (available at http://www.fpir.noaa.gov/PRD/prd_mhi_false_killer_whale.html).

NMFS is required by section 4(f) of the ESA to develop and implement recovery plans for the conservation and survival of federally listed species unless the Secretary finds that such a plan will not promote the conservation of the species. Recovery means that listed species and their ecosystems are restored, and their future secured, so that the protections of the ESA are no longer necessary. The ESA specifies that recovery plans are to include (1) a description of site-specific management actions necessary to achieve the plan's goals for the conservation and survival of the species; (2) objective, measurable criteria which, when met, would result in the species being removed from the list; and (3) estimates of the time and costs required to carry out the actions and achieve the plan's conservation goals. Under Section 4(f) of the ESA, public notice and an opportunity for public review and comment are also provided during recovery plan development. We published a Notice of Intent and Request for Information to Prepare a Recovery Plan for this DPS in October of 2013 (78 FR 60850). We received seven substantive public comments in response to that notice, which remain relevant and will be considered in the recovery planning process. Because significant time has elapsed since the last request, we are requesting any relevant information that may have become available.

This notice and request for information serves as a second public notice and opportunity for public input early in the process. Once a recovery plan has been drafted, it will be announced in the Federal Register and available on our Web site (see ADDRESSES section) for public review and comment before being finalized.

Recovery Planning Workshop Announcement

From October 25 through 28, 2016, NMFS will hold a workshop at the Ohana Waikiki East Hotel in Honolulu, HI to help inform our recovery planning for the MHI insular false killer whale DPS (see DATES section). We are inviting experts in specific topic areas, including the species' biology/ecology, threats to the species and the species' habitat, and the recovery planning process itself. These experts will help us to update the threats analysis from the listing rule, and identify potential actions to address the threats. Identified experts include representatives of Federal and state agencies, scientific experts, individuals from conservation partners and non-governmental organizations, and commercial and recreational fishermen. Information received at the workshop may be used to inform the development of other conservation decisions and actions, including the designation of critical habitat.

NMFS will provide a moderator to manage the workshop as well as a notetaker to document input received. We are seeking only individual analysis, facts, and opinions from participants. Questions to the participants will be limited to those necessary to clarify the expert's presentation and questions seeking consensus among panelists or experts will not be entertained. NMFS also will provide a time-limited question and answer period during which attendees may ask NMFS about information presented. NMFS will prepare a summary of the workshop, noting the main points raised by the panelists and registered speakers.

This workshop will be open to the public, and a public comment period will be provided at the end of each session. If you plan to attend the workshop as an interested member of the public, please contact Krista Graham at the address listed above by October 21, 2016, so we can ensure sufficient space for all participants and interested parties during our logistics planning.

Agenda

○ October 25-26 will focus on recovery actions and criteria related to non-longline commercial and recreational fisheries interactions;

○ October 27 will focus on recovery actions and criteria related to nutrition, i.e., prey size/biomass, distribution, and competition with fisheries;

○ October 28 will focus on recovery actions and criteria related to other threats to both the species itself and its habitat including noise and contaminants.

Request for Information

We also invite the public to submit scientific or commercial information that may help to inform the recovery criteria and actions for the MHI insular false killer whale DPS. We are soliciting relevant information related to the MHI insular false killer whale and its habitat, including the following:

1. Criteria for removing the MHI insular false killer whale from the list of threatened and endangered species (this could be either threats-based or abundance/trends based);

2. Human activities that contribute to threats to the species;

3. Physical, biological or chemical features of the environment that limit the recovery of the MHI insular false killer whale;

4. Recovery strategies addressing threats to physical and biological features that are essential to species conservation;

5. Strategies and/or actions to recover the MHI insular false killer whale;

6. Estimates of the time and cost to implement recovery actions;

7. Critical knowledge gaps and/or uncertainties that need to be resolved to better inform recovery efforts; and

8. Research, monitoring, and evaluation needs to address knowledge gaps and uncertainties, or to assess the species' status, limiting factors, and threats relative to recovery goals.

Information may be submitted via the methods listed above in the ADDRESSES section.

The workshop is accessible to persons with disabilities. Send requests for sign language interpretation or other auxiliary aids at least five business days in advance to Krista Graham at 808-725-5152.

Authority: 16 U.S.C. 1531 et seq.

Dated: September 28, 2016.
Nicole R. LeBoeuf,
Acting Deputy Director, Office of Protected Resources, National Marine Fisheries Service.

[FR Doc. 2016-23857 Filed 10-3-16; 8:45 am]

BILLING CODE 3510-22-P